DEPARTMENT OF HEALTH AND HUMAN SERVICES

Centers for Disease Control and Prevention

Disease, Disability, and Injury Prevention and Control Special Emphasis Panel (SEP): Capacity Building Assistance To Improve the Delivery and Effectiveness of Human Immunodeficiency Virus (HIV) Prevention Interventions for High-Risk Racial/Ethnic Minority Subpopulations, Program Announcement 05051

In accordance with Section 10(a)(2) of the Federal Advisory Committee Act (Pub. L. 92-463), the Centers for Disease Control and Prevention (CDC) announces the following meeting:

Name: Disease, Disability, and Injury Prevention and Control Special Emphasis Panel (SEP): Capacity Building Assistance to Improve the Delivery and Effectiveness of Human Immunodeficiency Virus (HIV) Prevention Interventions for High-Risk Racial/Ethnic Minority Subpopulations, Program Announcement 05051.

Times and Dates: 12 p.m.-5:30 p.m., June 15, 2005 (Closed). 8:30 a.m.-5 p.m., June 16, 2005 (Closed). 8:30 a.m.-5 p.m., June 17, 2005 (Closed).

Place: Westin Hotel at Perimeter North, 7 Concourse Parkway, Atlanta, GA 30328, Telephone Number 770.395.3900.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to: Capacity Building Assistance to Improve the Delivery and Effectiveness of Human Immunodeficiency Virus (HIV) Prevention Interventions for High-Risk Racial/Ethnic Minority Subpopulations, Program Announcement 05051.

Contact Person for More Information: Beth Wolfe, Designated Federal Official, National Center for HIV, STD, and TB Prevention, CDC, Corporate Square Office Park, 8 Corporate Square Boulevard, Mailstop E07, Atlanta, GA 30329, Telephone (404) 639-8531.

The Director, Management Analysis and Services Office, has been delegated the authority to sign Federal Register notices pertaining to announcements of meetings and other committee management activities, for both CDC and the Agency for Toxic Substances and Disease Registry.

Dated: May 23, 2005.
Alvin Hall,
Director, Management Analysis and Services Office, Centers for Disease Control and Prevention.

[FR Doc. 05-10644 Filed 5-26-05; 8:45 am]

BILLING CODE 4163-18-P